DEPARTMENT OF TRANSPORTATION

Federal Railroad Administration

[Docket Number FRA-2023-0031]

Petition for Waiver of Compliance; Reopening of Comment Period

Under part 211 of title 49 Code of Federal Regulations (CFR), this document provides the public notice that by communication received July 7, 2023, Amtrak requested that the Federal Railroad Administration (FRA) re-open the period for public comment on Amtrak's request for a waiver of compliance from certain provisions of the Federal railroad safety regulations contained at 49 CFR parts 215 (Railroad Freight Car Safety Standards), 229 (Railroad Locomotive Safety Standards), 232 (Brake System Safety Standards for Freight and Other Non-Passenger Trains and Equipment; End-of-Train Devices), and 238 (Passenger Equipment Safety Standards). The relevant Docket Number is FRA-2023-0031.

Specifically, Amtrak requests to re-open the comment period regarding its petition to use virtual reality simulation assessments to satisfy the “hands-on” portion of periodic refresher training to remain qualified per § 215.11(b), § 229.5, § 232.203(b)(8), and § 238.109. Amtrak requested that FRA re-open the comment period for an additional 45 days “to allow Amtrak more time to address some of the concerns the labor organizations outline in their comments.” Previously, FRA had published a notice establishing a comment period open until July 5, 2023 (88 FR 29176, May 5, 2023).¹ By this notice, FRA grants Amtrak's request to re-open the comment period for 45 days.

¹ See https://www.regulations.gov/document/FRA-2023-0031-0002.

A copy of the communication, the petition, as well as any written communications concerning the petition, are available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by September 18, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-16457 Filed 8-1-23; 8:45 am]

BILLING CODE 4910-06-P